DEPARTMENT OF AGRICULTURE

Forest Service

Notice of Proposed New Fee Sites

AGENCY: Forest Service, Agriculture (USDA).

ACTION: Notice of proposed new fee sites.

SUMMARY: The Shasta-Trinity National Forest is proposing to charge new fees at multiple recreation sites listed in SUPPLEMENTARY INFORMATION of this notice. Funds from fees would be used for operation, maintenance, and improvements of these recreation sites. An analysis of nearby developed recreation sites with similar amenities shows the proposed fees are reasonable and typical of similar sites in the area.

DATES: If approved, the new fee would be implemented no earlier than six months following the publication of this notice in the Federal Register.

ADDRESSES: Shasta-Trinity National Forest, 204 West Alma Street, Mount Shasta, CA 96067.

FOR FURTHER INFORMATION CONTACT: Jennifer Womack, Recreation Special Uses Administrator, 530-925-9306 or jennifer.womack@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment.

Reasonable fees, paid by users of these sites, will help ensure that the Forest can continue maintaining and improving recreation sites like this for future generations.

As part of this proposal, the Ripstein, Horse Flat, Scott Mountain, Goldfield, Denny, Hobo Gulch, Trout Creek Meadow, Algoma, Deerlick Springs, Big Slide, Scott Flat, Slide Creek, and Jackass Springs campgrounds are proposing $15 per night. The Panther Meadows and Castle Lake campgrounds are proposing $20 per night. In addition, this proposal would implement new fees at three recreation rentals: Knob Peak Lookout at $90 per night along with the Forest Glen House and Harrison Gulch Ranger Station, both at $150 per night.

A $5 day-use fee per vehicle or $40 annual pass is proposed at Bunny Flat Trailhead, Everitt Memorial Vista, Red Fir Flat, Castle Lake Picnic, Upper Falls Picnic Area, Middle Falls Picnic Area, Lower Falls Picnic Area, Lakin Dam Picnic Area, Camp 4 Day Use Area, Cattle Camp Picnic Area, Pollard Gulch, Snowman's Hill Snowpark Day Use, Parks Creek Trailhead, Cabin Creek Trailhead, Big Flat River Access, Pigeon Point Boating Site, Canyon Creek Trailhead, Stuart Fork Trailhead, Swift Creek Trailhead, and Long Canyon Trailhead. The full suite of Interagency passes would be honored.

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: June 22, 2022.
Sandra Watts,
Acting Associate Deputy Chief, National Forest System.

[FR Doc. 2022-13675 Filed 6-27-22; 8:45 am]

BILLING CODE 3411-15-P